DEPARTMENT OF THE INTERIOR

National Park Service

[NPS-WASO-NAGPRA-NPS0035768; PPWOCRADN0-PCU00RP14.R50000]

Notice of Inventory Completion: U.S. Department of the Interior, Bureau of Reclamation, Oklahoma-Texas Area Office, Oklahoma City, OK

AGENCY: National Park Service, Interior.

ACTION: Notice.

SUMMARY: In accordance with the Native American Graves Protection and Repatriation Act (NAGPRA), the U.S. Department of the Interior, Bureau of Reclamation (USBR) has completed an inventory of human remains and has determined that there is a cultural affiliation between the human remains and Indian Tribes or Native Hawaiian organizations in this notice. The human remains were removed from Caddo County, OK.

DATES: Repatriation of the human remains in this notice may occur on or after June 5, 2023.

ADDRESSES: Kate Ellison, USBR, 5924 NW 2nd Street, Suite 200, Oklahoma City, OK 73127, telephone (405) 470-4816, email kellison@usbr.gov.

SUPPLEMENTARY INFORMATION: This notice is published as part of the National Park Service's administrative responsibilities under NAGPRA. The determinations in this notice are the sole responsibility of the USBR. The National Park Service is not responsible for the determinations in this notice. Additional information on the determinations in this notice, including the results of consultation, can be found in the inventory or related records held by the Museum of the Great Plains (MGP), a repository for the USBR.

Description

Between 1964 and 1972, human remains representing, at minimum, one individual were removed from Caddo County, OK. The human remains were found by a local person (Mr. Voerster) along the shoreline of Fort Cobb Reservoir and in proximity to archeological site 34CD697. The human remains were taken to the Oklahoma Archeological Survey in Norman, OK, where they were examined by archeologist Dr. Richard Drass and identified as part of a human cranium. The human remains are reasonably believed to have come into the possession of the Bureau of Reclamation around January 12, 2012, based on notes from the local collector. Since November 15, 2016, the human remains have been in the custody of the Museum of the Great Plains in Lawton, OK. On January 8, 2021, skeletal inventory and analysis were conducted by Rachel Perash, a contractor working for the Bureau of Reclamation. On July 6, 2022, additional analysis was conducted, by Dr. Peer Moore-Jansen, Chair and Professor of Anthropology at Wichita State University, who confirmed that the remains were human and archeological. No known individual was identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the USBR has determined that:

• The human remains described in this notice represent the physical remains of one individual of Native American ancestry.

• There is a relationship of shared group identity that can be reasonably traced between the human remains described in this notice and the Wichita and Affiliated Tribes (Wichita, Keechi, Waco, & Tawakonie), Oklahoma.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 5, 2023. If competing requests for repatriation are received, the USBR must determine the most appropriate requestor prior to repatriation. Requests for joint repatriation of the human remains are considered a single request and not competing requests. The USBR is responsible for sending a copy of this notice to the Indian Tribe identified in this notice.

Authority: Native American Graves Protection and Repatriation Act, 25 U.S.C. 3003, and the implementing regulations, 43 CFR 10.9, § 10.10, and § 10.14.

Dated: April 25, 2023.
Melanie O'Brien,
Manager, National NAGPRA Program.

[FR Doc. 2023-09471 Filed 5-3-23; 8:45 am]

BILLING CODE 4312-52-P